DEPARTMENT OF COMMERCE

International Trade Administration

North American Free Trade Agreement (NAFTA), Article 1904 Binational Panel Reviews: Notice of Completion of Panel Review

AGENCY: United States Section, NAFTA Secretariat, International Trade Administration, Department of Commerce.

ACTION: Notice of Completion of Panel Review in the matter of Certain Circular Welded Non-Alloy Steel Pipe From Mexico: Final Results of Antidumping Duty Administrative Review and Final Determination of No Shipments; 2014-2015 (Secretariat File Number: USA-MEX-2017-1904-01).

SUMMARY: The NAFTA Secretariat has received submissions filed on behalf of the United States Department of Commerce, Maquilacero S.A. de C.V., and Wheatland Tube requesting the termination of panel review in the matter of Certain Circular Welded Non-Alloy Steel Pipe From Mexico: Final Results of Antidumping Duty Administrative Review and Final Determination of No Shipments; 2014-2015 (Circular Welded Steel Pipe AR) dispute.

Given all the participants have consented to a Notice of Termination of Panel Review pursuant to Rule 71(2) of the NAFTA Rules of Procedure for Article 1904 Binational Panel Reviews (Rules), the NAFTA Circular Welded Steel Pipe AR dispute has been terminated.

As a result, and in accordance with Rule 78(a), notice is hereby given that the panel review of the NAFTA Circular Welded Steel Pipe AR dispute has been completed effective October 11, 2018.

FOR FURTHER INFORMATION CONTACT: Paul E. Morris, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Dated: October 18, 2018.
Paul E. Morris,
U.S. Secretary, NAFTA Secretariat.

[FR Doc. 2018-23098 Filed 10-22-18; 8:45 am]

BILLING CODE 3510-GT-P